DEPARTMENT OF COMMERCE

International Trade Administration

Business Development Mission to Egypt and Morocco

Mission Description

The U.S. Department of Commerce, International Trade Administration, and U.S. Commercial Service is organizing a Business Development Mission to explore ports and infrastructure development opportunities in Egypt (Cairo and Alexandria) and Morocco (Casablanca and Tangier), March 25—April 1, 2011. This mission, led by a Senior Official of the Department of Commerce or other U.S. agency, will focus on the opportunities in port logistics, infrastructure projects, safety and security, and energy infrastructure. The mission will include one-on-one business appointments with pre-screened potential buyers, agents, distributors and joint venture partners; site visits to ports and free trade zones, meetings with government officials, and networking receptions for companies interested in expansion into the North African, Middle Eastern and Southern European markets.

Commercial Setting

Egypt

Egypt is strategically located at the gateway of trade and commerce for Southern Europe as well as North Africa and the Middle East. It is a prime location for the transit of goods, as well as a key destination for American companies seeking to do business in Egypt and the region. With a population of over 80 million Egypt is the largest Arab country, and the fourth largest export market for U.S. products and services in the Middle East. The U.S. is Egypt's largest bilateral trading partner, and the second largest investor. In 2010, bilateral trade is expected to exceed $7 billion. The Egyptian gross domestic product (GDP) grew over five percent from 2009 to 2010. The financial sector escaped many negative impacts of the global financial crisis, due to Egypt's improved banking supervision, conservative lending practices and central bank guarantee of all bank deposits.

In 2010 the Egyptian Ministry of Investment announced major plans for infrastructure development with 46 different projects valued at over $16 billion. The majority of these projects are available to be awarded based on the Egyptian Government's “Public Private Partnership” (PPP) measures. The PPP is a multi-faceted initiative to attract private sector investment for infrastructure projects and U.S. companies are eligible to bid on them. Trade Mission participants will be briefed by Egyptian Government officials on these projects and the PPP program. In addition, meetings will be arranged with companies that have already been awarded the designated infrastructure projects in order to identify supplier contacts.

Morocco

Morocco is the only African country to have a Free Trade Agreement (FTA) with the U.S. Since the FTA went into effect in 2006, U.S. exports to Morocco have tripled to $1.6 billion. Morocco has aggressively developed the infrastructure to become a gateway to North Africa and the European Union. The Port of Tanger-Med, soon to be Africa's largest port, is located only eight miles from Europe, at the northern tip of Africa where the Mediterranean Sea meets the Atlantic Ocean. Tanger-Med already offers direct shipping from Houston, Mobile, Jacksonville, Miami, Savannah, Charleston, and Norfolk. This strategically located port offers free trade zones, including the Auto Zone dedicated to auto parts, and direct distribution systems onward to the European Union, the Middle East, and North Africa.

The Trade Mission coincides with the Tanger Mediterranean Special Agency's (TMSA) fourth annual MedLog Conference (Conference), March 31—April 1, 2011. TMSA is responsible for all Tanger-Med building projects, port operations, and management of the free trade zones. Mission participants will meet buyers of safety and security, and vessel management equipment, and conduct one-on-one business appointments with officials who purchase products and services for the port facilities. In addition, meetings will be arranged with companies that have already been awarded the designated infrastructure projects in order to identify supplier contacts.

Best Sector Prospects

Port Logistics

Egypt

The mission will include briefings in Cairo by representatives of the major firms involved in port activities in Egypt, and a visit to the port of Alexandria. Egypt has 3,500 kilometers of navigable waterways and the Government considers the maintenance and expansion of its ports a top priority. The port of Alexandria, the largest of the country's nine ports, was recently revamped, resulting in an increased cargo handling capacity of 44 million tons per year, which represents about 60 percent of Egypt's trade. Port projects will include a new container terminal and container-handling piers, new storage facilities and handling equipment and improvements to wharfs and marinas.

To address overall port efficiency, there is a growing demand for improved Management Information Systems and Terminal Operating Systems. These include systems for financial management, port engineering, cargo tracking, cargo and container tracking and transfer, gate control, and procurement. U.S. companies can also participate as providers for shipping agents, warehousing, stevedoring, container handling, port management and consulting. Additionally, there is a need for heavy equipment to handle bulk cargo for loading large shipments of minerals and other commodities.

Morocco

Construction of Tanger-Med II, an additional set of cargo terminals and storage, is currently underway and the port will begin issuing tenders for equipment and services in the next 12-18 months. As part of a national logistics program, the Moroccan government recently announced a 20-year, $13 billion project to build port, rail, highway, and airport logistics centers, with port management, vessel tracking and management, cold storage, warehousing, railways, bridges, and distribution centers. Government tenders are now being issued for these projects, and the plans are to spend $7 billion on the project by 2015.

Examples of planned port projects include:

• A $69 million project to convert the old port, located near the City of Tangier, into a tourist center and passenger terminal.

• Nador West Med, a new industrial port for the coastal city of Nador.

Infrastructure Projects

Egypt

The Government of Egypt directed $2.6 billion to Egypt's infrastructure in 2008, $1.4 billion in 2009, and $1.9 billion in 2010. With a growing number of tourists, there has been increased pressure on Egypt's roads, bridges, railroads, power stations, water and sewage, hospitals, and schools. As a result, construction is one of the most active sectors of the Egyptian economy, contributing about six percent of GDP and accounting for eight percent of employment in 2009.

Examples of planned infrastructure projects include:

• The Rod El Farag-6th of October Highway, at $545 million.

• The Cairo-10th of Ramadan City Railway Line, at $727 million.

• A special economic zone in the Gulf of Suez, at $1.45 billion.

• A water treatment station in the Red Sea, at $400 million.

Morocco

Morocco has multi-billion-dollar construction projects in many sectors. Opportunities exist in port construction and logistics facilities, hotels and resorts, road construction and equipment, airports, hospitals and clinics, municipal buildings, renewable power plants (particularly solar and wind), waste management plants, schools and universities, water management plants, and architecture.

Examples of upcoming infrastructure projects include design and construction of:

• A high-speed rail line from Tangier to Casablanca, with $4.5 billion to be spent by 2015.

• An $830 million light rail line around Casablanca.

• 60 dams at $1.47 billion.

• Water desalination plants at $1.22 billion.

• Highway systems in Rabat, Tit Mellil-Berrechid and El Jadida-Safi at $1.7 billion.

• Low-cost housing of 130,000 units at $1.9 billion.

• New passenger and cargo rail stations for Marrakesh and Casablanca.

Safety/Security

Egypt

In addition to Alexandria, Egypt has eight major ports and three cross-country borders that require significant security measures. In its fight against drug smuggling and counterfeit products, Egypt requires container scanning and shipment tracking devices. Egypt is also looking at container scanning upgrades and seafarer identification cards for more secure identification and synchronizing systems to coordinate security measures and responses. Accordingly, opportunities exist for U.S firms providing short-range radar systems, surveillance cameras, infrared and radiological detectors, and vessel tracking maritime information systems, biometric scanners, personnel databases, computer peripherals, and systems integration equipment.

Morocco

Tangier is the closest land access point between Africa and Europe, creating a need for cargo and passenger control/tracking systems, surveillance equipment including sonar and radar, biometric passport technologies, and other equipment used in the fight against drug trafficking, smuggling and counter terrorism. The military and police agencies are purchasing safety and security equipment for protecting Morocco's two vast coastlines and remote national borders.

Energy Infrastructure

Egypt

Egypt is one of the largest electrical energy producing countries in the Middle East. Over the next ten years, Egypt plans to expand its electricity capacity to 40,000 megawatts through a combination of traditional, renewable, and nuclear energy production to diversify energy resources and preserve the country's limited oil and gas reserves. Opportunities exist for U.S. providers of wind turbines, blades, and other equipment, as well as development and project management. Best prospects in the energy sector include circuit breakers of more than 66kv, nuclear-related consultation and generation equipment and peripherals; power transformers of more than 25MVA-66kva; power transmission lines; turbine generator units with associated equipment; and vibration dampers.

Morocco

As industry grows in Morocco, there is an increasing need for coal and gas-fired energy plants.

A $2.7 billion coal-fired power plant (1320 megawatts) is planned for the coastal city of Safi and $450 million will be used specifically for clean coal technology. Opportunities also exist for equipment and services in solar and wind energy. Five new wind farms will be built by 2020 to supply 2000 megawatts of electricity. In late 2009, Morocco announced a $9 billion solar energy program and established a Solar Energy Agency. Engineering, construction, procurement and, and management opportunities also exist.

Mission Goals

The goal of the trade mission is to provide U.S. participants with first-hand market information, access to government decision makers as appropriate and one-on-one meetings with business contacts, including potential agents, distributors and partners, so they can position themselves to enter or expand their presence in the Egyptian and Moroccan markets.

Mission Scenario

The Trade Mission will include four stops: Cairo and Alexandria, Egypt, March 25-28, and Casablanca and Tangier, Morocco, March 29-April 1.

Cairo is the capital of Egypt and the largest city in Africa. A majority of the nation's commerce is generated in Cairo and regional headquarters of numerous businesses and organizations are located in the city.

Alexandria is the second largest city and the largest port in Egypt as well as an important industrial center. The majority of Egypt's trade goes through the port, with a cargo handling capacity of 44 million tons per year.

Casablanca is Morocco's largest city, the commercial center of Morocco and the headquarters and industrial facilities location for the leading Moroccan and international companies based in Morocco.

Tangier is home to the Tanger-Med Port. In addition, Tangier is undergoing rapid development and modernization. Plans for the city include five-star hotels along the bay, a modern business district, an airport terminal and a soccer stadium.

In each city, participants will meet with new business contacts, learn about the markets by participating in Embassy briefings, and explore additional opportunities at networking receptions. Activities will include one-on-one business appointments with pre-screened business prospects.

Proposed Timetable

Friday | March 25 | Arrival in Cairo.
Saturday | March 26 | Visit to Alexandria to meet with port officials and return to Cairo.
Sunday | March 27 | Orientation and market briefings in Cairo.
Monday | March 28 | One-on-one business appointments in Cairo.
Tuesday | March 29 | One-on-one business appointments; evening departure for Casablanca, Morocco.
Wednesday | March 30 | Orientation and market briefings, one-on-one business appointments, Evening transfer to Tangier.
Thursday | March 31 | Attend the MedLog Conference, meetings with port and Moroccan Government officials and Ambassador's reception.
Friday | April 1 | One-on-one business appointments.
Saturday | April 2 | Depart Morocco for U.S.

End of Mission

Participation Requirements

All parties interested in participating in the Trade Mission to Egypt and Morocco must complete and submit an application package for consideration by the U.S. Department of Commerce. All applicants will be evaluated on their ability to meet certain conditions and best satisfy the selection criteria as outlined below. This mission is designed for a minimum of 12 and a maximum of 25 companies to participate in the mission from the applicant pool. U.S. companies already doing business in the target markets as well as U.S. companies seeking to enter these markets for the first time are encouraged to apply.

Fees and Expenses

After a company has been selected to participate on the mission, a payment to the U.S. Department of Commerce in the form of a participation fee is required. The participation fee will be $2,950 for a small or medium-sized enterprise (SME) * and $3,850 for large firms. The fee for each additional firm representative (SME or large firm) is $700. Expenses for travel, lodging, most meals, interpreters, and incidentals will be the responsibility of each mission participant. Delegation members will be able to take advantage of Embassy rates for hotel rooms.

* An SME is defined as a firm with 500 or fewer employees or that otherwise qualifies as a small business under SBA regulations (see http://www.sba.gov/services/contracting opportunities/sizestandardstopics/index.html). Parent companies, affiliates, and subsidiaries will be considered when determining business size. The dual pricing reflects the Commercial Service's user fee schedule that became effective May 1, 2008 (for additional information see http://www.export.gov/newsletter/march2008/initiatives.html).

Conditions for Participation

• An applicant must submit a completed and signed mission application and supplemental application materials, including adequate information on the company's products and/or services, primary market objectives, and goals for participation. If the U.S. Department of Commerce receives an incomplete application, the Department may reject the application, request additional information, or take the lack of information into account when evaluating the applications.

• Each applicant must also certify that the products and services it seeks to export through the mission are either produced in the United States, or, if not, marketed under the name of a U.S. firm and have at least 51 percent U.S. content.

Selection Criteria for Participation

Selection will be based on the following criteria:

• Suitability of the company's products or services to the targeted markets.

• Applicant's potential for business in the target markets, including likelihood of exports resulting from the mission.

• Consistency of the applicant's goals and objectives with the stated scope of the mission.

Diversity of company size, sector or subsector, and location may also be considered during the review process.

Referrals from political organizations and any documents containing references to partisan political activities (including political contributions) will be removed from an applicant's submission and not considered during the selection process.

Timeframe for Recruitment and Applications

Mission recruitment will be conducted in an open and public manner, including posting on the U.S. Department of Commerce trade missions calendar— http://www.ita.doc.gov/doctm/tmcal.html—and other Internet Web sites, publication in domestic trade publications and association newsletters, direct outreach to the Department's clients and distribution lists, posting in the Federal Register, and announcements at industry meetings, symposia, conferences, and trade shows.

Recruitment for the mission will begin September 20, 2010 and conclude no later than January 21, 2011. Applications received after January 21, 2011 will be considered only if space and scheduling constraints permit. We will inform applicants of selection decisions as soon as possible after January 21, 2011. Applications received after that date will be considered only if space and scheduling constraints permit.

Contacts

U.S. Commercial Service Domestic Contacts

Trade Promotion Programs

Anne Novak, Tel: 202-482-8178, Fax: 202-482-9000, E-mail: EgyptMoroccoTM@trade.gov.

Africa, Near East and South Asia

Sal Tauhidi, Tel: 202-482-1322, Fax: 202-482-5179, E-mail: EgyptMoroccoTM@trade.gov.

Dated: September 21, 2010.
Anne Novak,
Global Trade Programs, Commercial Service.

[FR Doc. 2010-23967 Filed 9-23-10; 8:45 am]

BILLING CODE 3510-FP-P